DEPARTMENT OF HEALTH AND HUMAN SERVICES

Health Resources and Services Administration

[CFDA 93.918B, HRSA 03-093]

Title III Early Intervention Services Program (EISP)

AGENCY: Health Resources and Services Administration, HHS.

ACTION: Notice of availability of funds.

SUMMARY: The Health Resources and Services Administration (HRSA) announces the availability of fiscal year (FY) 2003 funds to be awarded under the Ryan White Comprehensive AIDS Resources Emergency (CARE) Act Title III Early Intervention Services (EIS) Program for new proposals to support outpatient HIV early intervention and primary care services for low-income, medically underserved people in existing primary care systems. Grants will be awarded for a 3-year period.

Program Purpose: The purpose of this funding is to provide, on an ongoing outpatient basis, high quality, culturally competent, early intervention services/primary care to individuals with HIV infection. This is accomplished by increasing the present capacity and capability of eligible ambulatory health services entities. These expanded services become a part of a continuum of HIV prevention and care for individuals who are at risk for HIV infection or are HIV infected.

Program Requirements: As described in section 2651(b) of the Public Health Service Act, funded programs must provide the following services on an outpatient basis:

(A) Counseling individuals with respect to HIV disease;

(B) Testing individuals with respect to HIV disease, including tests to confirm the presence of the disease, tests to diagnose the extent of the deficiency in the immune system, and tests to provide information on appropriate therapeutic measures for preventing and treating the deterioration of the immune system and for preventing and treating conditions arising from the disease;

(C) Referrals of individuals with HIV disease to appropriate providers of health and support services;

(D) Other clinical and diagnostic services regarding HIV disease and periodic medical evaluations of individuals with the disease; and

(E) Providing therapeutic measures as described in (B).

Funded programs must provide the proposed services directly and/or through formal agreements with public or nonprofit private entities. They may also provide services through agreements with private for-profit entities if such entities are the only available providers of quality HIV care in the area. A minimum of 50 percent of funds awarded MUST be spent on primary care services as described in items B-E above. No more than 10 percent of funds awarded may be spent on administration, including planning and evaluation.

Eligible Applicants: Applicants are limited to public entities or private nonprofit entities which meet the qualifications as described in section 2652(a) of the PHS Act, including (1) migrant health centers under section 329 or community health centers under section 330; (2) grantees under section 340 (regarding health services for the homeless; (3) grantees under section 1001 (regarding family planning) other than States; (4) comprehensive hemophilia diagnostic and treatment centers; (5) federally-qualified health centers under section 1905(1)(2)(B) of the Social Security Act; or (6) nonprofit private entities that provide comprehensive, primary care services to populations at risk of HIV disease. Faith-based and community-based organizations which meet these qualifications are eligible to apply.

Funding Priorities and/or Preferences: HRSA shall give preference to applicants in an area experiencing an increase in the burden of providing services regarding HIV disease, as described in section 2653 of the PHS Act. Measures of burden include the number and rate of increase of AIDS cases, other sexually transmitted diseases, tuberculosis and drug abuse; lack of availability of early intervention services; lack of availability of primary health services from providers other than the applicant; and the distance between such area and the nearest community that has an adequate level of availability of appropriate HIV-related services and the length of time required to travel such distance. Under section 2653(d), of the applicants who qualify for preference under this section, (1) HRSA shall give preference to applicants that will expend the grant under section 2651 to provide early intervention under such section in rural areas; and (2) HRSA shall give special consideration to areas that are underserved with respect to such services. These may include organizations serving communities of color that are highly affected by HIV/AIDS. Rural areas are located outside of urbanized areas and urban clusters as defined by the U.S. Census Bureau. Preferences, as described in the applications, will be considered after applications are scored.

Authorizing Legislation: The EIS program is authorized by section 2651(a) of the Public Health Service Act, as amended (42 U.S.C. 300ff-51).

Availability of Funds: Approximately $4 million is available for this initiative. HRSA expects to fund approximately 12-15 grants. The project and budget periods for approved projects will begin on or about September 1, 2003. Continuation awards within the project period will be made on the basis of satisfactory progress and the availability of funds.

Application Deadline: Applications for this grant must be received in the HRSA Grants Application Center by close of business July 14, 2003. Applications shall be considered as meeting the deadline if they are either (1) received on or before the deadline date or (2) postmarked on or before the deadline date, and received in time for submission to the objective review panel. A legible dated receipt from a commercial carrier or the U.S. Postal Service will be accepted instead of a postmark. Private metered postmarks will not be accepted as proof of timely mailing. Grant applications postmarked after the deadline may be returned.

Where to Request and Send an Application: To obtain the official grant application kit (Form PHS-5161-1) and program guidance materials for this announcement call the HRSA Grant Application Center at 877-477-2123 and request the OMB Catalogue of Federal Domestic Assistance number 93.918B, HRSA 03-093, EISP. In fiscal year 2003 HRSA will begin accepting grant applications online. Please refer to the HRSA Grants Schedule at http://www.hrsa.gov/grants/ for more information.

ADDRESSES: All applications should be mailed or delivered to HRSA Grant Application Center, 901 Russell Avenue, Suite 450, Gaithersburg, Maryland 20879. Grant applications sent to any other address will be returned. The Internet address for HAB is http://www.hab.hrsa.gov/.

FOR FURTHER INFORMATION CONTACT: Additional information related to the program may be requested from the Division of Community Based Programs, HIV/AIDS Bureau, HRSA, 5600 Fishers Lane Room 7A-30, Rockville, Maryland 20857. The telephone number is (301) 443-0493; and the fax number is (301) 443-1884.

SUPPLEMENTARY INFORMATION: Applications will be reviewed by an objective review committee. The review criteria will include: (1) Justification of need, (2) organizational capabilities and experience, (3) coordination and linkage with other HIV programs, (4) adequacy of scope of work for providing early intervention services, (5) work plan, (6) program evaluation, (7) appropriateness and justification of budget, and (8) adherence to program guidance.

There is no matching requirement for this program.

Public Health System Reporting Requirements: Under these requirements (approved under OMB No. 0937-0195), a community-based, non-governmental applicant must prepare and submit a Public Health System Impact Statement to the head of the appropriate State and local health agencies in the area(s) to be impacted no later than the Federal application receipt due date. This statement must include (1) a copy of the face page of the application (SF424) and (2) A summary of the project, not to exceed one page, which provides a description of the population to be served; a summary of the services to be provided; and a description of the coordination planned with the appropriate State and local health agencies.

Executive Order 12372: This program has been determined to be a program which is subject to the provision of Executive Order 12372 concerning intergovernmental review of Federal programs by appropriate health planning agencies, as implemented by 45 CFR part 100. Executive Order 12372 allows States the option of setting up a system for reviewing applications from within their States for assistance under certain Federal programs. The application packages to be made available under this notice will contain a listing of States that have chosen to set up such a review system and will provide a single point of contact (SPOC) in the States for review. Applicants (other than federally-recognized Indian tribal governments) should contact their State SPOC as early as possible to alert them to the prospective applications and receive any necessary instructions on the State process. For proposed projects serving more than one State, the applicant is advised to contract the SPOC of each affected State. The due date for the State process recommendations is 60 days after the application deadline for new and competing awards. The granting agency does not guarantee to “accommodate or explain” for State process recommendations it receives after that date. (See part 148, Intergovernmental Review of Public Health Service Programs under Executive Order 12372 and 45 CFR part 100 for a description of the review process and requirements).

Dated: May 8, 2003.
Elizabeth M. Duke,
Administrator.

[FR Doc. 03-13319 Filed 5-28-03; 8:45 am]

BILLING CODE 4165-15-P